DEPARTMENT OF COMMERCE

National Oceanic and Atmospheric Administration

Announcement of Fall 2003 U.S. Coral Reef Task Force Meeting

AGENCY: Department of Commerce.

ACTION: Notice of public meeting and opportunity for public comment.

Time and Date: Part I—8 a.m. to 5 pm Commonwealth of the Northern Mariana Islands, (CNMI) October 3, 2003; Part II—8 a.m. to 5 p.m. Guam, October 6, 2003. All times Chamorro Standard Time.

Place: Part I—Dai Ichi Hotel, Garapan, Saipan, CNMI; Part II—Hilton Guam Resort & Spa, Tumon Bay, Guam.

SUMMARY: The Department of Commerce announces the October 2003 public meeting of the U.S. Coral Reef Task Force (CRTF) in CNMI and Guam. Through the coordinated efforts of its members, including the heads of eleven federal agencies, the Governors of seven states and territories, and the leaders of the Freely Associated States, the Task Force has helped lead U.S. efforts to address the coral reef crisis and sustainably manage the nation's valuable coral reef ecosystems.

Matters To Be Considered: During the October 2003 public meeting, the CRTF will discuss implementation of the National Coral Reef Action Strategy, recognize significant contributions to coral reef conservation, discuss implementation and development of 3-year Local Action Strategies, and accept public comments. Once finalized, the agenda will be available from the contacts below and will also be published on the Web at http://coralreef.gov/.

Individuals and organizations will have opportunities to register for both exhibit space and to provide public comments. Wherever possible, those with similar viewpoints or messages are encouraged to make joint statements. Public comments will be received on the afternoons of October 3rd (in CNMI) and October 6th (in Guam). Written public statements may also be submitted to the Task Force prior to the meeting or following the meeting. The deadline for submission of written public statements is October 20, 2003.

Travel information and meeting updates are posted on the Web at http://coralreef.gov.

FOR FURTHER INFORMATION CONTACT: Organizations and individuals based outside of Guam and the Commonwealth of the Northern Mariana Islands wishing to register for public comments, submit written public statements or to obtain additional information should contact the CRTF meeting office: Lisa Dawson, Coral Reef Conservation Program, Office of Response and Restoration, N/ORR, 1305 East West Hwy, Silver Spring, MD 20910, Phone (301) 713-2989 x105, Fax (301) 713-4389, e-mail: coralreef@noaa.gov, subject: USCRTF meeting.

Organizations or individuals in Guam and CNMI should contact: Becky Cruz Lizama, CNMI Point of Contact, Coastal Resources Management Office, Office of the Governor, P.O. Box 10007, Saipan, MP 96950, Telephone: (670) 664-8305, e-mail: crm.permit@saipan.com, subject: USCRTF meeting.

Exhibit space reservations can be made on the on-line meeting registration form at http://coralreef.gov.

Dated: August 29, 2003.
Ted I. Lillestolen,
Captain/NOAA, Associate Deputy Assistant Administrator, Ocean Services and Coastal Zone Management, National Oceanic and Atmospheric Administration.

[FR Doc. 03-22531 Filed 9-2-03; 12:33 pm]

BILLING CODE 3510-JE-P